DEPARTMENT OF THE INTERIOR

National Park Service

National Register of Historic Places; Notification of Pending Nominations

Nominations for the following properties being considered for listing in the National Register were received by the National Park Service before September 7, 2002.

Pursuant to § 60.13 of 36 CFR Part 60 written comments concerning the significance of these properties under the National Register criteria for evaluation may be forwarded by United States Postal Service, to the National Register Historic Places, National Park Service, 1849 C St. NW, NC400, Washington, DC 20240; by all other carriers, National Register of Historic Places, National Park Service, 1201 Eye St. NW., 8th floor, Washington DC 20005; or by fax, 202-343-1836. Written or faxed comments should be submitted by October 8, 2002.

Carol D. Shull,
Keeper of the National Register of Historic Places.

ARIZONA

Maricopa County

Initial Point of the Gila and Salt River Base Line and Meridian, Summit of Monument Hill at 115th Ave. and Baseline Rd., Avondale, 02001137

COLORADO

Boulder County

North St. Vrain Creek Bridge, (Highway Bridges in Colorado MPS) CO 7 at milepost 32.98, Lyons, 02001159

Costilla County

Rito Seco Creek Culvert, (Highway Bridges in Colorado MPS) CO 142 at milepost 33.81, San Luis, 02001146

Denver County

South Platte River Bridges, (Highway Bridges in Colorado MPS) I-25 at milepost 210.53, Denver, 02001128

Douglas County

Cherry Creek Bridge, (Highway Bridges in Colorado MPS) CO 83 at milepost 46.30, Franktown, 02001147

Eagle County

Dotsero Bridge, (Highway Bridges in Colorado MPS) I-70 Service Rd. at milepost 133.51, Dotsero, 02001155 Eagle River Bridge, (Highway Bridges in Colorado MPS) US 6 at milepost 150.24, Eagle, 02001156

Wolcott Bridge,

(Highway Bridges in Colorado MPS) CO 131 at milepost 0.07, Wolcott, 02001157

El Paso County

Black Squirrel Creek Bridge, (Highway Bridges in Colorado MPS) US 24 at milepost 327.33, Falcom, 02001158

Little Fountain Creek Bridge,

(Highway Bridges in Colorado MPS) CO 115 at milepost 36.84, Widefield, 02001153

Fremont County

Main Street Bridge, (Highway Bridges in Colorado MPS) CO 115 at milepost 8.90, Florence, 02001145

Rio Grande Railroad Viaduct

(Highway Bridges in Colorado MPS) CO 120 at milepost 0.17, Florence, 02001148

Gunnison County

Gunnison River Bridge I, (Highway Bridges in Colorado MPS) US 50 Service Rd. at milepost 155.41, Gunnison, 02001152

Gunnison River Bridge II,

(Highway Bridges in Colorado MPS) US-50 Service Rd. at milepost 155.59, Gunnison, 02001151

Huerfano County

Maitland Arroyo Bridge, (Highway Bridges in Colorado MPS) CO 69 at Milepost 3.0, Walsenburg, 02001134

Kit Carson County

Spring Creek Bridge, (Highway Bridges in Colorado MPS) US 24 at milepost 430.32, Vona, 02001143

Larimer County

Big Thompson River Bridge I, (Highway Bridges in Colorado MPS), US 34 at milepost 65.53, Estes Park, 02001144

Big Thompson River Bridge II, (Highway Bridges in Colorado MPS), US 34 at milepost 66.22, Estes Park, 02001141

Big Thompson River Bridge III, (Highway Bridges in Colorado MPS), US 34 at milepost 85.15, Loveland, 02001139

Big Thompson River Bridge IV, (Highway Bridges in Colorado MPS), US 34 at milepost 86.04, Loveland, 02001140

Fort Collins Armory, 314 E. Mountain Ave., Fort Collins, 02001133

Wind Ridge, 1397 Clara Dr., Estes Park, 02001130

Mesa County

Colorado River Bridge, (Highway Bridges in Colorado MPS), I-70 Frontage Rd. at milepost 62.90, De Beque, 02001154

Montrose County

Dolores River Bridge, (Highway Bridges in Colorado MPS), CO 90 at milepost 15.22, Bedrock, 02001150

Park County

EM Ranch, (Ranching Resources of South Park, Colorado MPS), Cty Rd. 439, Hartsel, 02001142

Prowers County

Granada Bridge, (Highway Bridges in Colorado MPS), US 385 at milepost 97.32, Granada, 02001138

Pueblo County

Santa Fe Avenue Bridge, (Highway Bridges in Colorado MPS), US-50 at milepost 1.33, Pueblo, 02001149

St. Charles River Bridge, (Highway Bridges in Colorado MPS), I-50 at milepost 7.77, Devine, 02001131

Rio Grande County

Denver & Rio Grande Railroad South Fork Water Tank, (Railroads in Colorado, 1858-1948 MPS), US-160, South Fork, 02001132

Washington County

Plum Bush Creek Bridge, (Highway Bridges in Colorado MPS), US 36 at milepost 138.16, Last Chance, 02001135

West Plum Bush Creek Bridge, (Highway Bridges in Colorado MPS), US 36 at milepost 134.59, Last Chance, 02001136

Weld County

Little Thompson River Bridge, (Highway Bridges in Colorado MPS), I-25 Service Rd. at mipepost 249.90, Berthoud, 02001129

INDIANA

Cass County

Tousley, Henry, House, 1912 High St., Logansport, 02001167

Dubois County

Woebkenberg, Johann Bernard, Farm, 1512 E. Mariah Hill Rd., Ferninand, 02001165

Lake County

Wynant, Wilbur, House, 600 Fillmore St., Gary, 02001168

Madison County

Elwood Downtown Historic District, Roughly bounded by Duck Creek, N. A St., 16th St., and S. C St., Elwood, 02001175

Montgomery County

Seybold, George, House, 111 E. Main St., Waveland, 02001172

Orange County

Lynd School, (Indiana's Public Common and High Schools MPS), 723 N. Lynd R., 0.6 mi. N of jct. of IN 56 and Lynd Rd., Orleans, 02001169

Steuben County

Collins School, (Indiana's Public Common and High Schools MPS), IN 120, 0.7 mi. E of Cty. Rte 450W, Fremont, 02001173

Switzerland County

Schenck, Benjamin, Mansion, 206 W. Turnpike St., Vevay, 02001174

Vigo County

Washington, Booker T., School, (Indiana's Public Common and High Schools MPS), 1201 S. 13th St., Terre Haute, 02001170

Wayne County

Reeveston Place Historic District, Bounded by South B, South E, South 16th and South 23rd Sts., Richmond, 02001171

LOUISIANA

Orleans Parish

Eagle Saloon Building, 401-403 South Rampart,

New Orleans, 02001160

Iroquois Theater, 413-415 S. Rampart St., New Orleans, 02001161

Karnofsky Tailor Shop—House, 427-431 S. Rampart St., New Orleans, 02001162

MISSOURI

Dade County

Washington Hotel, 2 S. Main St., Greenfield, 02001178

Livingston County

Chillicothe Commercial Historic District, (Chillicothe, Missouri MPS) Roughly bounded Clay, Ann, Washington, and Locust Sts., Chillicothe, 02001176

Courthouse Square Historic District, (Chillicothe, Missouri MPS) Roughly bounded by Calhoun, Jackson, Washington, and Elm Sts., Chillicothe, 02001177

St. Louis Independent city Syndicate Trust Building, 915 Olive St., St. Louis (Independent City), 02001166

NEW MEXICO

Bernalillo County

Aldo Leopold Neighborhood Historic District, (Twentieth Century Suburban Growth of Albuquerque MPS) 105-135 Fourteenth St., SW., Albuquerque, 02001164

Santa Fe County

Don Gaspar Bridge, Don Gaspar Ave. crossing over the Santa Fe R. bet. Alameda and E. De Vargas Sts., Santa Fe, 02001163

NORTH CAROLINA

Stanly County

Five Points Historic District, Jct. of E. Main St., Pee Dee Ave., and 4th St., Albermarle, 02001179

OREGON

Multnomah County

Peterson, J.H., Machine Shop, 1626 NW Thruman St., Portland, 02001181

PENNSYLVANIA

Elk County

Ridgway Historic District, Roughly bounded by the Borough line, Clarion R, Erie Alley, and Gallagher Run, Ridgway, 02001180

UTAH

Salt Lake County

Livingston, William and Annie, House, 2491 E. Valley View Ave., Holladay, 02001182

VIRGINIA

Amelia County

Winterham, 11440 Grub Hill Church Rd., Amelia Court House, 02001183

WISCONSIN

Crawford County

Prairie du Chien City Hall, 207 W. Blackhawk Ave., Prairie du Chien, 02001186

Dane County

University Presbyterian Church and Student Center, 731 State St., Madison, 02001185

A request for REMOVAL has been made for the following resources:

ARKANSAS

Hot Spring County

Burks Service Station (Arkansas Highway History and Architecture MPS) Jct. Of Page Ave. And Sullenberger Malvern, 00000630

Logan County

Rock Island Railroad Depot-Booneville (Historic Railroad Depots of Arkansas MPS) S of first St. And W of Broadway, at the N end of Rhyne Ave. Booneville, 92000603

Scott County

Forrester, John T., House 115 Danville St., Waldron, 80000786

Sebastian County

Bracht, Karl Edward, House 315 N. 13th St., Fort Smith, 79000459

White County

Doss House (White County MPS) 408 N. Main St., at Louisiana St. Beebe, 91001264

IOWA

Madison County

Cedar Covered Bridge 1.5 mi. E of Winterset, Winterset vicinity, 76000786

[FR Doc. 02-24054 Filed 9-20-02; 8:45 am]

BILLING CODE 4310-70-P